DEPARTMENT OF DEFENSE

48 CFR Part 208

[DFARS Case 2003-D006]

Defense Federal Acquisition Regulation Supplement; Deletion of Federal Prison Industries Clearance Exception

AGENCY: Department of Defense (DoD).

ACTION: Final rule.

SUMMARY: DoD is issuing a final rule amending the Defense Federal Acquisition Regulation Supplement (DFARS) to delete obsolete text pertaining to an exception from requirements for purchase of products from Federal Prison Industries, Inc. (FPI). The DFARS text has become obsolete due to a broader exception to FPI clearance requirements published in Item V of Federal Acquisition Circular 2001-14 on May 22, 2003.

EFFECTIVE DATE: June 20, 2003.

FOR FURTHER INFORMATION CONTACT: Ms. Susan Schneider, Defense Acquisition Regulations Council, OUSD(AT&L)DPAP(DAR), IMD 3C132, 3062 Defense Pentagon, Washington, DC 20301-3062. Telephone (703) 602-0326; facsimile (703) 602-0350. Please cite DFARS Case 2003-D006.

SUPPLEMENTARY INFORMATION:

A. Background

The FPI Board of Directors recently adopted a resolution increasing, to $2,500, the blanket waiver threshold relating to small dollar-value purchases from FPI. An interim rule amending the Federal Acquisition Regulation (FAR) to implement this waiver was published as Item V of Federal Acquisition Circular (FAC) 2001-14 on May 22, 2003 (68 FR 28094). The preamble provides information for parties interested in providing public comment on that rule.

The text at DFARS 208.606(1) implements a previous blanket waiver granted by FPI for DoD purchases totaling $250 or less that require delivery within 10 days. Since the broader waiver implemented at FAR 8.606 by FAC 2001-14 applies to all Federal agencies, the text at DFARS 208.606(1) is no longer necessary and is being deleted.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2003-D006.

C. Paperwork Reduction Act

The Paperwork Reduction Act does not apply because the rule does not impose any information collection requirements that require the approval of the Office of Management and Budget under 44 U.S.C. 3501, et seq.

List of Subjects in 48 CFR Part 208

Government procurement.

Michele P. Peterson,
Executive Editor, Defense Acquisition Regulations Council.

Therefore, 48 CFR part 208 is amended as follows:

1. The authority citation for 48 CFR part 208 continues to read as follows:

Authority: 41 U.S.C. 421 and 48 CFR chapter 1.

PART 208—REQUIRED SOURCES OF SUPPLIES AND SERVICES

2. Section 208.606 is revised to read as follows:

208.606 Exceptions.

For DoD, FPI clearances also are not required if market research shows that the FPI product is not comparable to products available from the private sector that best meet the Government's needs in terms of price, quality, and time of delivery.

[FR Doc. 03-15653 Filed 6-19-03; 8:45 am]

BILLING CODE 5001-08-P